DEPARTMENT OF ENERGY

Federal Energy Regulatory Commission

[Docket No. AD05-13-000]

Joint Boards on Security Constrained Economic Dispatch; Notice Announcing the Agenda for the PJM/MISO Joint Board Meeting

November 16, 2005.

On September 30, 2005, the Commission announced its intention to hold initial joint board meetings.¹ These joint board meetings are being held pursuant to section 1298 of the Energy Policy Act of 2005,² which added section 223 to the Federal Power Act (FPA).³ FPA section 223 requires the Commission to convene joint boards on a regional basis pursuant to FPA section 209 “to study the issue of security constrained economic dispatch for the various market regions,” “to consider issues relevant to what constitutes ‘security constrained economic dispatch' and how such a mode of operating * * * affects or enhances the reliability and affordability of service,” and “to make recommendations to the Commission.” Subsequently, several notices were issued providing details on the joint boards and the joint board meetings.⁴

¹ Joint Boards on Security Constrained Economic Dispatch, 112 FERC ¶ 61,353 (2005) (September 30 Order).

² Pub. L. No. 109-58, § 1298, 119 Stat. 594, 986 (2005).

³ 16 U.S.C. §§ 824 et seq. (2000).

⁴ Three notices were issued on October 14, 21 and 27, 2005, in accordance with the September 30 Order. The first notice announced the location and other details for the joint board meetings. The second notice provided a list of the members of each joint board. A third notice provided hotel information for the joint board meetings for the PJM/MISO and Northeast regions and noted that the Province of Manitoba was participating as an observer in the PJM/MISO joint board. Subsequent notices announcing the agenda for the West and South joint board meetings were issued on November 9, 2005.

This notice provides the agenda for the initial joint board meeting for the PJM/MISO region scheduled for Monday, November 21, 2005 from 10 a.m. to 4 p.m. (Central Time) at the Doubletree Hotel O'Hare—Rosemont, 5460 N. River Road, Rosemont, IL 60018.

Attachment A of this notice contains the agenda for the joint board meeting.

Electronic copies of presentation materials will be made available on the Commission Web site www.ferc.gov as they are received (select the “Month View” under the Calendar of Events, then click the “View Events” link for the date of the conference and finally click “View Details” next to the conference to access the information).

A free Web cast of this event is available through http://www.ferc.gov. Anyone with Internet access who desires to view this event can do so by navigating to http://www.ferc.gov's Calendar of Events and locating this event in the Calendar. The event will contain a link to its Web cast. The Capitol Connection provides technical support for the Web casts; and offers access to the open meetings via television in the DC area and via phone bridge for a fee. If you have any questions, visit http://www.CapitolConnection.org or contact Danelle Perkowski or David Reininger at 704-993-3100.

Transcripts of the meeting will be immediately available for a fee from Ace Reporting Company (202-347-3700 or 1-800-336-6646). They will be available for free on the Commission's eLibrary system seven calendar days after FERC receives the transcript.

Comments related to the meeting may be filed in the captioned docket no later than December 13, 2005. The comments will be publicly available for review on the Commission's e-Library.

For more information about the meeting, please contact Sarah McKinley at 202-502-8004 or sarah.mckinley@ferc.gov.

Magalie R. Salas,
Secretary.

[FR Doc. E5-6487 Filed 11-23-05; 8:45 am]

BILLING CODE 6717-01-P